SECURITIES AND EXCHANGE COMMISSION

[Release No. 34-90615; File No. SR-NASDAQ-2020-065]

Self-Regulatory Organizations; The Nasdaq Stock Market LLC; Notice of Withdrawal of Proposed Rule Change To Lower the Enterprise License Fee for Broker-Dealers Distributing Nasdaq Basic to Internal Professional Subscribers as Set Forth in the Equity 7 Pricing Schedule, Section 147, and the Enterprise License Fee for Broker-Dealers Distributing Nasdaq Last Sale to Professional Subscribers at Equity 7, Section 139

December 9, 2020.

On September 30, 2020, The Nasdaq Stock Market LLC (“Exchange”) filed with the Securities and Exchange Commission (“Commission”), pursuant to Section 19(b)(1) of the Securities Exchange Act of 1934 ¹ and Rule 19b-4 thereunder,² a proposed rule change to lower the enterprise license fee for broker-dealers distributing Nasdaq Basic to internal professional subscribers as set forth in the Equity 7 Pricing Schedule, Section 147, and the enterprise license fee for broker-dealers distributing Nasdaq Last Sale to professional subscribers at Equity 7, Section 139. The proposed rule change was published for comment in the Federal Register on October 20, 2020.³

¹ 15 U.S.C. 78s(b)(1).

² 17 CFR 240.19b-4.

³ See Securities Exchange Act Release No. 90177 (October 14, 2020), 85 FR 66620. Comments on the proposed rule change can be found at: https://www.sec.gov/comments/sr-nasdaq-2020-065/srnasdaq2020065.htm.

On November 23, 2020, the Exchange withdrew the proposed rule change (SR-NASDAQ-2020-065).

For the Commission, by the Division of Trading and Markets, pursuant to delegated authority.⁴
⁴ 17 CFR 200.30-3(a)(12).
J. Matthew DeLesDernier,
Assistant Secretary.

[FR Doc. 2020-27485 Filed 12-14-20; 8:45 am]

BILLING CODE 8011-01-P